DEPARTMENT OF ENERGY

Federal Energy Regulatory Commission

Combined Notice of Filings #1

Take notice that the Commission received the following Complaints and Compliance filings in EL Dockets:

Docket Numbers: EL23-21-000.

Applicants: CORE Electric Cooperative, Grand Valley Rural Power Lines, Inc., Holy Cross Electric Association, Inc., and Yampa Valley Electric Association, Inc. v. Public Service Company of Colorado.

Description: Complaint of CORE Electric Cooperative, et al. v. Public Service Company of Colorado.

Filed Date: 12/30/22.

Accession Number: 20230104-5111.

Comment Date: 5 p.m. ET 1/30/23.

Take notice that the Commission received the following electric rate filings:

Docket Numbers: ER10-1618-018; ER10-1631-020; ER10-1854-020; ER10-1892-023; ER10-2678-021; ER10-2729-015; ER10-2739-036; ER10-2744-021; ER11-3320-020; ER11-3321-013; ER13-2316-018; ER14-19-019; ER14-1219-015; ER14-2548-011; ER16-1652-023; ER16-1732-014; ER16-2405-014; ER16-2406-015; ER17-989-013; ER17-990-013; ER17-992-013; ER17-993-013; ER17-1946-013; ER17-1947-007; ER17-1948-007; ER18-95-010; ER20-660-010; ER20-1440-006; ER21-202-002; ER21-1133-003; ER22-425-003; ER22-1241-002.

Applicants: REV Energy Marketing, LLC, Enerwise Global Technologies, LLC, Hummel Station, LLC, Centrica Business Solutions Optimize, LLC, Yards Creek Energy, LLC, Bolt Energy Marketing, LLC, Buchanan Energy Services Company, LLC, Helix Ravenswood, LLC, Helix Maine Wind Development, LLC, Helix Ironwood, LLC, Bath County Energy, LLC, Springdale Energy, LLC, Gans Energy, LLC, Chambersburg Energy, LLC, Rockford Power, LLC, Rockford Power II, LLC, Aurora Generation, LLC, LifeEnergy LLC, Ocean State Power, Armstrong Power, LLC, West Deptford Energy, LLC, Seneca Generation, LLC, Wallingford Energy LLC, LSP University Park, LLC, Riverside Generating Company, L.L.C., LS Power Marketing, LLC, Buchanan Generation, LLC, Troy Energy, LLC, Columbia Energy LLC, Doswell Limited Partnership, Rolling Hills Generating, L.L.C.

Description: Updated Market Power Analysis for Northeast Region of LS Power Marketing, LLC, et al.

Filed Date: 12/30/22.

Accession Number: 20221230-5411.

Comment Date: 5 p.m. ET 2/28/23.

Docket Numbers: ER10-1776-005; ER10-2822-022; ER10-2824-005; ER10-2825-006; ER10-2831-004; ER10-2957-006; ER10-2995-006; ER10-2996-005; ER10-2999-005; ER10-3000-005; ER10-3009-007; ER10-3013-006; ER10-3014-003; ER10-3029-005; ER11-2196-011; ER16-1250-015; ER17-1243-003; ER17-1769-004; ER19-2360-004; ER21-2272-003; ER21-2748-003; ER21-2847-003; ER22-2173-002; ER22-2174-002.

Applicants: Daybreak Solar, LLC, Bakeoven Solar, LLC, Montague Solar, LLC, Lund Hill Solar, LLC, Bracewell LLP, Golden Hills Wind Farm, LLC, Montague Wind Power Facility, LLC, Solar Star Oregon II, LLC, Twin Buttes Wind II LLC, Avangrid Renewables, LLC, San Luis Solar LLC, Klondike Wind Power III LLC, Twin Buttes Wind LLC, Star Point Wind Project LLC, Pebble Springs Wind LLC, Klondike Wind Power II LLC, Klondike Wind Power LLC, Klamath Energy LLC, Juniper Canyon Wind Power LLC, Hay Canyon Wind LLC, Colorado Green Holdings LLC, Big Horn II Wind Project LLC, Big Horn Wind Project LLC, Atlantic Renewable Projects II LLC, Leaning Juniper Wind Power II LLC.

Description: Updated Market Power Analysis for Northwest Region of Atlantic Renewable Projects II LLC, et al.

Filed Date: 12/30/22.

Accession Number: 20221230-5412.

Comment Date: 5 p.m. ET 2/28/23.

Docket Numbers: ER10-2042-042; ER10-1942-034; ER17-696-022; ER10-1938-037; ER10-1934-036; ER10-1893-036; ER10-3051-041; ER10-2985-040; ER10-3049-041; ER10-1877-010; ER11-4369-021; ER16-2218-022; ER10-1862-036.

Applicants: Power Contract Financing, L.L.C., North American Power Business, LLC, North American Power and Gas, LLC, Hermiston Power, LLC, Champion Energy Services, LLC, Champion Energy Marketing LLC, Champion Energy, LLC, CES Marketing X, LLC, CES Marketing IX, LLC, Calpine Power America—CA, LLC, Calpine Energy Solutions, LLC, Calpine Construction Finance Co., L.P., Calpine Energy Services, L.P.

Description: Updated Market Power Analysis for Northwest Region of Calpine Energy Services, L.P, et al.

Filed Date: 1/3/23.

Accession Number: 20230103-5523.

Comment Date: 5 p.m. ET 3/6/23.

Docket Numbers: ER10-2822-023; ER16-1250-016; ER11-2112-011; ER10-2828-007; ER10-2285-008; ER17-1241-002; ER16-2285-005; ER10-2423-011; ER10-2404-011; ER10-2812-018; ER10-1291-025; ER10-2843-017; ER12-2649-006; ER10-1725-006; ER10-3001-007; ER10-3002-007; ER10-3004-008; ER12-422-008; ER10-2301-006; ER19-2361-002; ER20-2830-001; ER10-3010-007; ER10-2306-006; ER12-96-010; ER10-3031-007; ER10-3160-005; ER16-1637-004.

Applicants: UIL Distributed Resources, LLC, The United Illuminating Company, Streator-Cayuga Ridge Wind Power LLC, South Chestnut LLC, Rochester Gas and Electric Corporation, Providence Heights Wind, LLC,PPM Roaring Brook, LLC, Otter Creek Wind Farm LLC, New York State Electric & Gas Corporation, New England Wind, LLC, Locust Ridge Wind Farm II, LLC, Locust Ridge Wind Farm, LLC, Lempster Wind, LLC, Hardscrabble Wind Power LLC, Groton Wind, LLC, GenConn Middletown LLC, GenConn Energy LLC, GenConn Devon LLC, Flat Rock Windpower II LLC, Flat Rock Windpower LLC, Desert Wind Farm LLC, Deerfield Wind, LLC, Central Maine Power Company, Casselman Windpower LLC, Blue Creek Wind Farm LLC, Avangrid Renewables, LLC, Atlantic Renewable Projects II LLC.

Description: Triennial Market Power Analysis for Northeast Region of Atlantic Renewable Projects II LLC, et al.

Filed Date: 1/3/23.

Accession Number: 20230103-5522.

Comment Date: 5 pm ET 3/6/23.

Docket Numbers: ER11-2639-015.

Applicants: Ridge Crest Wind Partners, LLC.

Description: Updated Market Power Analysis for Northwest Region of Ridge Crest Wind Partners, LLC.

Filed Date: 1/3/23.

Accession Number: 20230103-5519.

Comment Date: 5 p.m. ET 3/6/23.

Docket Numbers: ER16-915-006; ER10-2861-011; ER12-1308-014; ER13-1504-012; ER15-1952-012; ER16-612-001.

Applicants: Greeley Energy Facility, LLC, Pavant Solar LLC, SWG Arapahoe, LLC, Palouse Wind, LLC, Fountain Valley Power, L.L.C., Comanche Solar PV, LLC.

Description: Updated Market Power Analysis for Northwest Region of Comanche Solar PV, LLC, et al.

Filed Date: 1/3/23.

Accession Number: 20230103-5521.

Comment Date: 5 pm ET 3/6/23.

Docket Numbers: ER19-1044-006.

Applicants: Telocaset Wind Power Partners, LLC.

Description: Updated Market Power Analysis for Northwest Region and Notice of Change in Status of Telocaset Wind Power Partners, LLC.

Filed Date: 1/3/23.

Accession Number: 20230103-5513.

Comment Date: 5 p.m. ET 3/6/23.

Docket Numbers: ER19-2439-001

Applicants: Tampa Electric Company.

Description: Notice of Change in Status of Tampa Electric Company.

Filed Date: 1/4/23.

Accession Number: 20230104-5201.

Comment Date: 5 p.m. ET 1/25/23.

Docket Numbers: ER21-1044-001.

Applicants: Tri-State Generation and Transmission Association, Inc.

Description: Updated Market Power Analysis for Northwest Region of Hartree Partners, LP.

Filed Date: 1/3/23.

Accession Number: 20230103-5518.

Comment Date: 5 p.m. ET 3/6/23.

Docket Numbers: ER23-397-001.

Applicants: PJM Interconnection, L.L.C.

Description: Tariff Amendment: Request to Defer Action-Amendment to ISA & ICSA, SA# 5564 & 5565; Queue AA2-161 to be effective 12/31/9998.

Filed Date: 1/5/23.

Accession Number: 20230105-5077.

Comment Date: 5 p.m. ET 1/26/23.

Docket Numbers: ER23-580-001.

Applicants: PJM Interconnection, L.L.C.

Description: Tariff Amendment: Request to Defer Action on Amendment to WMPA, SA No. 5591; Queue No. AE2-054 to be effective 12/31/9998.

Filed Date: 1/5/23.

Accession Number: 20230105-5075.

Comment Date: 5 p.m. ET 1/26/23.

Docket Numbers: ER23-771-000.

Applicants: Midcontinent Independent System Operator, Inc.

Description: § 205(d) Rate Filing: 2023-01-05_SA 3392 Entergy Arkansas-New Madrid Solar 1st Rev GIA (J944) to be effective 12/20/2022.

Filed Date: 1/5/23.

Accession Number: 20230105-5023.

Comment Date: 5 p.m. ET 1/26/23.

Docket Numbers: ER23-772-000.

Applicants: Arizona Public Service Company.

Description: § 205(d) Rate Filing: Service Agreement No. 407, Ditat Deus Solar LGIA to be effective 12/8/2022.

Filed Date: 1/5/23.

Accession Number: 20230105-5036.

Comment Date: 5 p.m. ET 1/26/23.

Docket Numbers: ER23-773-000.

Applicants: Pacific Gas and Electric Company.

Description: § 205(d) Rate Filing: CCSF missed WPAs filing (WDT SA 275) to be effective 3/7/2023.

Filed Date: 1/5/23.

Accession Number: 20230105-5047.

Comment Date: 5 p.m. ET 1/26/23.

Docket Numbers: ER23-774-000.

Applicants: Midcontinent Independent System Operator, Inc.

Description: § 205(d) Rate Filing: 2023-01-05_SA 2672 Termination of METC-Lansing Brd of Water IFA to be effective 1/6/2023.

Filed Date: 1/5/23.

Accession Number: 20230105-5054.

Comment Date: 5 p.m. ET 1/26/23.

Docket Numbers: ER23-775-000.

Applicants: PJM Interconnection, L.L.C.

Description: § 205(d) Rate Filing: PJM submits Amended NJ SAA Agreement as Rate Sch. No. 49 to be effective 4/15/2022.

Filed Date: 1/5/23.

Accession Number: 20230105-5067.

Comment Date: 5 p.m. ET 1/26/23.

Docket Numbers: ER23-776-000.

Applicants: PJM Interconnection, L.L.C.

Description: § 205(d) Rate Filing: Original ISA, Service Agreement No. 6747; Queue No. AF1-290 to be effective 12/7/2022.

Filed Date: 1/5/23.

Accession Number: 20230105-5068.

Comment Date: 5 p.m. ET 1/26/23.

Docket Numbers: ER23-777-000.

Applicants: New York Independent System Operator, Inc., Niagara Mohawk Power Corporation.

Description: § 205(d) Rate Filing: New York Independent System Operator, Inc. submits tariff filing per 35.13(a)(2)(iii: NYISO-National Grid Joint 205: Amended SGIA NYISO NatGrid Pattersonville SA2544 to be effective 12/20/2022.

Filed Date: 1/5/23.

Accession Number: 20230105-5071.

Comment Date: 5 p.m. ET 1/26/23.

Docket Numbers: ER23-778-000.

Applicants: Avista Corporation.

Description: Petition for Limited Waiver of Avista Corporation.

Filed Date: 1/5/23.

Accession Number: 20230105-5101.

Comment Date: 5 p.m. ET 1/26/23.

Docket Numbers: ER23-779-000.

Applicants: PJM Interconnection, L.L.C.

Description: § 205(d) Rate Filing: Revisions to Sch. 12—Appx A and C—Dec. 2022 RTEP, 30-Day Comment Period to be effective 4/5/2023.

Filed Date: 1/5/23.

Accession Number: 20230105-5117.

Comment Date: 5 p.m. ET 1/26/23.

Take notice that the Commission received the following electric securities filings:

Docket Numbers: ES23-24-000.

Applicants: Citizens S-Line Transmission LLC.

Description: Application Under Section 204 of the Federal Power Act for Authorization to Issue Securities of Citizens S-Line Transmission LLC.

Filed Date: 1/3/23.

Accession Number: 20230103-5524.

Comment Date: 5 p.m. ET 1/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2023.
Debbie-Anne A. Reese,
Deputy Secretary.

[FR Doc. 2023-00366 Filed 1-10-23; 8:45 am]

BILLING CODE 6717-01-P